DEPARTMENT OF DEFENSE

Department of the Navy

Notice of Intent To Grant Exclusive Patent License; Point Semantics Corporation

AGENCY: Department of the Navy, DoD.

ACTION: Notice.

SUMMARY: The Department of the Navy hereby gives notice of its intent to grant to Point Semantics Corporation a revocable, nonassignable, exclusive license to practice in the field of use of Scientific and Engineering Instrumentation which shall mean measurement, monitoring and testing of materials for scientific and engineering purposes in the laboratory or in the field; and in the field of use of Industrial Structure and Materials Market which shall mean measurement monitoring and control systems used in industrial production and in infrastructure monitoring and control, including particularly supervisory control systems and distributed control systems used in manufacturing, mining and utilities (NAIC Sectors 21-23 and 31-33) in the United States, the Government-owned inventions described in U.S. Patent No. 8,600,147 entitled “System and Method for Remote Measurement of Displacement and Strain Fields”, Navy Case No. 099,829; U.S. Patent Publication No. U.S. 2013-0063570 entitled “System and Method for Remote Full Field Three-Dimensional Displacement and Strain Measurements”, Navy Case No. 101,258; and U.S. Patent Publication No. U.S. 2014-0037217 entitled “Method and Direct Strain Imaging”, Navy Case No. 101,954 and any continuations, divisionals or re-issues thereof.

DATES: Anyone wishing to object to the grant of this license must file written objections along with supporting evidence, if any, not later than June 15, 2015.

ADDRESSES: Written objections are to be filed with the Naval Research Laboratory, Code 1004, 4555 Overlook Avenue SW., Washington, DC 20375-5320.

FOR FURTHER INFORMATION CONTACT: Rita Manak, Head, Technology Transfer Office, NRL Code 1004, 4555 Overlook Avenue SW., Washington, DC 20375-5320, telephone 202-767-3083. Due to U.S. Postal delays, please fax 202-404-7920, email: rita.manak@nrl.navy.mil or use courier delivery to expedite response.

Authority: 35 U.S.C. 207, 37 CFR part 404.

Dated: May 21, 2015.
N.A. Hagerty-Ford,
Commander, Judge Advocate General General's Corps, U.S. Navy, Federal Register Liaison Officer.

[FR Doc. 2015-13007 Filed 5-28-15; 8:45 am]

BILLING CODE 3810-FF-P